DEPARTMENT OF VETERANS AFFAIRS

Advisory Committee on Homeless Veterans; Notice of Meeting

The Department of Veterans Affairs (VA), in accordance with Public Law 92-463 (Federal Advisory Committee Act), gives notice that a meeting of the Advisory Committee on Homeless Veterans will be held from Wednesday, September 18, 2002, through Friday, September 20, 2002, at the VA Medical Center, Room 100, 10000 Brecksville Road, Brecksville, OH. The meeting will begin at 8:30 a.m. each day and conclude on Wednesday and Thursday at 4:30 p.m. and Friday at noon. the meeting is open to the public.

The purpose of the Committee is to advise the Secretary of Veterans Affairs with an on-going assessment of the effectiveness of the policies, organizational structures, and services of the Department in assisting homeless veterans. The Committee shall assemble and review information relating to the needs of homeless veterans and provide on going advice on the most appropriate means of providing assistance to homeless veterans. The Committee will make recommendations to the Secretary regarding such activities.

On September 18, the Committee will visit program sites in the Cleveland, Ohio, area that provide housing and supportive services to homeless veterans. On September 19, the Committee will receive information about Federal efforts to coordinate services, veteran access to homeless services from VA health and benefits programs and review new initiatives to assist veterans. On September 20, the Committee will conclude with reviews of previous presentations and discuss future actions for the Committee, including formulation of Committee recommendations.

Those wishing to attend the meeting should contact Mr. Pete Dougherty, Department of Veterans Affairs, at (202) 273-5764. No time will be allocated for receiving oral presentations from the public. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: August 23, 2002.
By Direction of the Secretary.
Ron Aument,
Deputy Chief of Staff.

[FR Doc. 02-22442 Filed 9-3-02; 8:45 am]

BILLING CODE 8320-01-M